MERIT SYSTEMS PROTECTION BOARD

Membership of the Merit Systems Protection Board's Senior Executive Service Performance Review Board

AGENCY: Merit Systems Protection Board.

ACTION: Notice.

SUMMARY: Notice is hereby given of the members of the Performance Review Board.

FOR FURTHER INFORMATION CONTACT: Janice Bradley, HR Director, Finance and Administrative Management, Merit Systems Protection Board, 1615 M Street, NW., Washington, DC 20419.

SUPPLEMENTARY INFORMATION: The Merit Systems Protection Board is publishing the names of the new and current members of the Performance Review Board (PRB) as required by 5 U.S.C. 4314(c)(4). Deborah Miron, William Boulden and Martha Schneider will serve as members. Martha Schneider will serve as Chair of the PRB. Gail T. Lovelace will serve as a new member.

Bentley M. Roberts, Jr.,
Clerk of the Board.

[FR Doc. 05-19104 Filed 9-23-05; 8:45 am]

BILLING CODE 7400-01-P